DEPARTMENT OF THE INTERIOR

Bureau of Land Management

[19X.LLID930000.L11100000.DF0000.LXSGPL000000.241A.4500132602]

Notice of Availability of the Draft Programmatic Environmental Impact Statement for Fuel Breaks in the Great Basin; Idaho, Washington, Oregon, California, Nevada, and Utah

AGENCY: Bureau of Land Management, Interior.

ACTION: Notice of Availability.

SUMMARY: In accordance with the National Environmental Policy Act of 1969, as amended, the Bureau of Land Management (BLM) has prepared a Draft Programmatic Environmental Impact Statement (EIS) for Fuel Breaks in the Great Basin and by this notice is announcing the opening of the comment period.

DATES: To ensure comments will be considered, the BLM must receive written comments on the Draft Programmatic EIS for Fuel Breaks in the Great Basin within 45 days following the date the Environmental Protection Agency publishes its Notice of Availability in the Federal Register. The BLM will announce future meetings or hearings and any other public involvement activities at least 15 days in advance through public notices, media releases, and/or mailings.

ADDRESSES: You may submit comments related to the Draft Programmatic EIS for Fuel Breaks in the Great Basin by any of the following methods: website: https://go.usa.gov/xnQcG, Email: GRSG_PEIS@blm.gov, Fax: 208-373-3805, Mail: Bureau of Land Management, Idaho State Office, ATTN: Fuel Breaks Draft PEIS, 1387 South Vinnell Way, Boise ID 83709.

Copies of the Draft Programmatic EIS for Fuel Breaks in the Great Basin are available in the BLM Idaho State at the above address; additional copies can be made available at the California, Nevada, Oregon/Washington, and Utah State Offices upon request.

FOR FURTHER INFORMATION CONTACT: Marlo Draper, telephone 208-373-3812; address BLM Idaho State Office, 1387 South Vinnell Way, Boise ID 83709; email mdraper@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The purpose of a system of strategically placed fuel breaks in the Great Basin region is to slow the spread of wildfires and provide firefighters with the best opportunity to catch rapidly moving fires and establish an anchor point, thereby reducing wildfire size and improving firefighter safety while engaging in fire suppression. Fuel breaks would also offer greater protection of human life and property, sagebrush communities, and habitat restoration investments. Reducing fire size helps to reduce the expansion of invasive species, such as cheatgrass and medusahead. The need for fuel breaks relates to the increased size and frequency of wildfires throughout the western United States in recent years. The fires have impacted healthy rangelands, sagebrush communities, and the general productivity of the lands. Efforts to suppress these wildfires have cost approximately $1.7 billion dollars between 2007 and 2017. These wildfires have resulted in increased numbers of injuries and fatalities among wildland firefighters, destruction of private property, degradation and loss of rangelands, loss of recreational opportunities, and habitat loss for a variety of species, including the conversion of native habitats to invasive annual grasses. The conversion of rangeland habitats to invasive annual grasslands further impedes rangeland health and productivity by slowing or preventing the recovery of sagebrush ecosystems.

The preferred alternative (Alternative D) would authorize a full suite of tools to construct approximately 11,000 miles of new fuel breaks within the 223,000,000-acre planning area. Impacts would include those to native plant communities that are currently resistant to invasive annual plants, but may become vulnerable through repeated fires. Potential tools would include manual, chemical, mechanical, prescribed fire, reseeding, and targeted grazing. Fuel break types would include green strips (areas planted with low-statured, fire-resistant vegetation), brown strips (areas where all vegetation is removed), mowed fuel breaks, and targeted grazing fuel breaks (where livestock grazing is managed to reduce vegetation).

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10

John F. Ruhs,
Idaho State Director, Bureau of Land Management.

[FR Doc. 2019-13021 Filed 6-20-19; 8:45 am]

BILLING CODE 4310-GG-P